FEDERAL RESERVE SYSTEM

Change in Bank Control Notices; Acquisitions of Shares of a Bank or Bank Holding Company

The notificants listed below have applied under the Change in Bank Control Act (“Act”) (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 31, 2019.

A. Federal Reserve Bank of Philadelphia (William Spaniel, Senior Vice President) 100 North 6th Street, Philadelphia, Pennsylvania 19105-1521. Comments can also be sent electronically to Comments.applications@phil.frb.org:

1. Patriot Financial Partners, GP II, L.P., Patriot Financial Partners II, L.P., Patriot Financial Partners Parallel II, L.P., Patriot Financial Partners, GP II, LLC., Patriot Financial Manager, L.P., Patriot Financial Manager, LLC. and Messrs. W. Kirk Wycoff, James J. Lynch and Ira M. Lubert all of Radnor, Pennsylvania; to acquire voting shares of Patriot Financial Partners L.P., Philadelphia, Pennsylvania, and thereby indirectly acquire shares of The Freedom Bank of Virginia, Fairfax, Virginia.

B. Federal Reserve Bank of Chicago (Colette A. Fried, Assistant Vice President) 230 South LaSalle Street, Chicago, Illinois 60690-1414:

1. Phyllis A. Drake, individually and acting in concert with Richard R. Drake, both of Radcliffe, Iowa; to retain voting shares of Drake Holding Company and thereby indirectly retain shares of Security State Bank, both of Radcliffe, Iowa.

C. Federal Reserve Bank of Kansas City (Dennis Denney, Assistant Vice President) 1 Memorial Drive, Kansas City, Missouri 64198-0001:

1. Jonathan Miller, Richardson, Texas, as co-trustee of the James H. Oliver NE Trust and the James H. Oliver Exempt Trust and as member of the Oliver Control Group; to retain voting shares of Platte Valley Cattle Company, Grand Island, Nebraska, and thereby indirectly retain shares of Town & Country Bank, Ravenna, Nebraska.

Board of Governors of the Federal Reserve System, May 9, 2019.
Yao-Chin Chao,
Assistant Secretary of the Board.

[FR Doc. 2019-09911 Filed 5-13-19; 8:45 am]

BILLING CODE P